DEPARTMENT OF ENERGY

Federal Energy Regulatory Commission

Project No. 2677-019]

City of Kaukauna, WI; Notice of Staff Participation in Meeting

October 23, 2008.

On November 10, 2008, Office of Energy Projects Staff will participate by teleconference in a work group meeting to discuss the proposed scope of work for the IFIM-type study being conducted for the relicensing of the Badger-Rapide Croche Hydroelectric Project (FERC No. 2677-019). The meeting will begin at 10 a.m. EST.

Interested parties wishing to attend should contact Arie DeWaal, Project Manager, Mead & Hunt, Inc., at (608) 273-6380, or via e-mail at arie.dewaal@meadhunt.com.

Kimberly D. Bose,
Secretary.

[FR Doc. E8-25973 Filed 10-30-08; 8:45 am]

BILLING CODE 6717-01-P